DEPARTMENT OF COMMERCE

National Oceanic and Atmospheric Administration

RIN 0648-XD316

Pacific Fishery Management Council; Public Meeting

AGENCY: National Marine Fisheries Service (NMFS), National Oceanic and Atmospheric Administration (NOAA), Commerce.

ACTION: Notice of public meetings.

SUMMARY: The Pacific Fishery Management Council (Council) and its advisory entities will hold public meetings.

DATES: The meetings will be held June 18-25, 2014. The Council meeting will begin on Friday, June 20, 2014 at 8 a.m., reconvening each day through Wednesday, June 25, 2014. All meetings are open to the public, except a closed session will be held at 8 a.m. on Friday, June 20 to address litigation and personnel matters. The Council will meet as late as necessary each day to complete its scheduled business.

ADDRESSES: The meetings will be held at the Hyatt Regency Orange County, 11999 Harbor Boulevard, Garden Grove, CA 92840; telephone: (714) 750-1234.

Council address: Pacific Fishery Management Council, 7700 NE Ambassador Place, Suite 101, Portland, OR 97220. Instructions for attending the meeting via live stream broadcast are given under SUPPLEMENTARY INFORMATION, below.

FOR FURTHER INFORMATION CONTACT: Dr. Donald O. McIsaac, Executive Director; telephone: (503) 820-2280 or (866) 806-7204 toll free; or access the Council Web site, http://www.pcouncil.org for the current meeting location, proposed agenda, and meeting briefing materials.

SUPPLEMENTARY INFORMATION: The June 20-25, 2014 meeting of the Pacific Fishery Management Council will be streamed live on the internet. The live meeting will be broadcast daily starting at 9 a.m. Pacific Time (PT) beginning on Friday, June 20, 2014 through Wednesday, June 25, 2014. The broadcast will end daily at 6 p.m. PT or when business for the day is complete. Only the audio portion, and portions of the presentations displayed on the screen at the Council meeting, will be broadcast. The audio portion is listen-only; you will be unable to speak to the Council via the broadcast. Join the meeting by visiting this link http://www.joinwebinar.com, enter the Webinar ID for this meeting, which is 675-991-863 and enter your email address as required. It is recommended that you use a computer headset as GoToMeeting allows you to listen to the meeting using your computer headset and speakers. If you do not have a headset and speakers, you may use your telephone for the audio portion of the meeting by dialing this TOLL number 1-646-307-1708 (not a toll free number); entering the phone audio access code 839-465-317; and then entering your Audio Pin which will be shown to you after joining the webinar. The webinar is broadcast in listen only mode.

The following items are on the Pacific Council agenda, but not necessarily in this order.

A. Call to Order

1. Opening Remarks

2. Roll Call

3. Executive Director's Report

4. Agenda

B. Open Comment Period

1. Comments on Non-Agenda Items

C. Administrative Matters

1. Approval of Council Meeting Minutes

2. Gulf of the Farallones and Cordell Bank National Marine Sanctuary Boundary Expansion

3. Legislative Matters

4. Fiscal Matters

5. Membership Appointments and Council Operating Procedures

6. Future Council Meeting Agenda and Workload Planning

D. Salmon Management

1. Lower Columbia River Natural Coho Harvest Matrix Update

2. Columbia River Cormorant Management Plan

E. Highly Migratory Species Management

1. Update on Regulatory Matters and International Activities

2. Drift Gillnet Fishery Transition Issues

3. Exempted Fishing Permit Process

4. Initial Scoping of Biennial Specifications and Management Measures

F. Groundfish Management

1. National Marine Fisheries Service Report

2. Electronic Monitoring Regulatory Process

3. Omnibus Regulation Changes Part I

4. Consideration of Inseason Adjustments

5. Final Exempted Fishing Permit Approval for 2015-16

6. Fixed Gear Sablefish Catch Share Program Review, Including Federal Electronic Fish Tickets for Open Access Sablefish Deliveries

7. Fisheries in 2015-16 and Beyond: Harvest Specifications, Management Measures, and Amendment 24

8. Initial Stock Assessment Plans and Terms of Reference for Groundfish and Coastal Pelagic Species

9. Omnibus Regulation Changes Part II

G. Coastal Pelagic Species Management

1. National Marine Fisheries Service Report

2. Pacific Mackerel Harvest Specifications and Management Measures for 2014-15

H. Habitat

1. Current Habitat Issues

Schedule of Ancillary Meetings

Day 1—Wednesday, June 18, 2014

Groundfish Management Team 1 p.m.

Day 2—Thursday, June 19, 2014

Groundfish Advisory Subpanel 8 a.m.

Groundfish Management Team 8 a.m.

Highly Migratory Species Advisory Subpanel 8 a.m.

Highly Migratory Species Management Team 8 a.m.

Scientific and Statistical Committee Groundfish Subcommittee 8 a.m.

Legislative Committee 9 a.m.

Budget Committee 2:30 p.m.

Day 3—Friday, June 20, 2014

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Scientific and Statistical Committee 8 a.m.

Enforcement Consultants 1 p.m.

Chair's Reception 6 p.m.

Day 4—Saturday, June 21, 2014

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants Ad hoc

Day 5—Sunday, June 22, 2014

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Enforcement Consultants Ad hoc

Day 6—Monday, June 23, 2014

California State Delegation 7 a.m.

Oregon State Delegation 7 a.m.

Washington State Delegation 7 a.m.

Groundfish Advisory Subpanel 8 a.m.

Groundfish Management Team 8 a.m.

Habitat Committee 10 a.m.

Enforcement Consultants Ad hoc

National Marine Fisheries Service Recreational Policy Meeting 7 p.m.

Day 7—Tuesday, June 24, 2014

California State Delegation 7 a.m.

Oregon State Delegation 7 a.m.

Washington State Delegation 7 a.m.

Groundfish Advisory Subpanel 8 a.m.

Groundfish Management Team 8 a.m.

Habitat Committee 8 a.m.

Enforcement Consultants Ad hoc

Day 8—Wednesday, June 25, 2014

California State Delegation 7 a.m.

Oregon State Delegation 7 a.m.

Washington State Delegation 7 a.m.

Additional detail on agenda items, Council action, and meeting rooms, is described in Agenda Item A.4, Proposed Council Meeting Agenda, and will be in the advance June 2014 briefing materials and posted on the Council Web site (www.pcouncil.org).

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: May 23, 2014.
Tracey L. Thompson,
Acting Deputy Director, Office of Sustainable Fisheries, National Marine Fisheries Service.

[FR Doc. 2014-12482 Filed 5-28-14; 8:45 am]

BILLING CODE 3510-22-P